FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted October 1, 2011 through October 31, 2011
10/04/2011
20111415 | G | MWI Veterinary Supply, Inc.; William C. Pratt; MWI Veterinary Supply, Inc.
20111434 | G | ACE Limited; Penn Millers Holding Corporation; ACE Limited.
10/05/2011
20111401 | G | Cargill, Incorporated; Permira IV L.P. 2; Cargill, Incorporated.
20111425 | G | Partners Limited; Brookfield Renewable Power Fund; Partners Limited.
10/07/2011
20110864 | G | Teva Pharmaceuticals Industries Ltd.; Cephalon, Inc.; Teva Pharmaceuticals Industries Ltd.
20111424 | G | OCP Trust; Audax Private Equity Fund III, L.P.; OCP Trust.
20111439 | G | Centrica plc; PNM Resources, Inc.; Centrica plc.
20111445 | G | GenNx360 Capital Partners, L.P.; syncreon Holdings Limited; GenNx360 Capital Partners, L.P.
20111448 | G | Nippon Steel Corporation; Sumitomo Metal Industries, Ltd.; Nippon Steel Corporation.
20111450 | G | Markel Corporation; WI Holdings Inc.; Markel Corporation.
20111453 | G | OGE Energy Corp.; Robert W. Jackson; OGE Energy Corp.
20111454 | G | Platinum Equity Capital Partners II, L.P.; HKW Capital Partners III, L.P.; Platinum Equity Capital Partners II, L.P.
10/11/2011
20111388 | G | European Aeronautic Defence and Space Company EADS N.V.; Apax France VI; European Aeronautic Defence and Space Company EADS N.V.
10/12/2011
20111443 | G | Complete Production Services, Inc.; Michael R. LaFerney; Complete Production Services, Inc.
20111444 | G | Complete Production Services, Inc.; Clyde Hinton; Complete Production Services, Inc.
20111446 | G | William L. Frost; Rick N. Beard; William L. Frost.
20111452 | G | TA XI L.P.; CoSentry.net, LLC; TA XI L.P.
20120005 | G | Odyssey Investment Partners Fund IV, LP; BSSI Holdings, LLC; Odyssey Investment Partners Fund IV, LP.
10/13/2011
20111449 | G | Welsh, Carson, Anderson & Stowe XI, L.P.; ABRY Senior Equity II, L.P.; Welsh, Carson, Anderson & Stowe XI, L.P.
10/14/2011
20111409 | G | Clifton L. Thomas; ExxonMobil Oil Corporation; Clifton L. Thomas.
20111457 | G | Colfax Corporation; Charter International PLC; Colfax Corporation.
20120002 | G | BDT CF Acquisition Vehicle, LLC; Colfax Corporation; BDT CF Acquisition Vehicle, LLC.
20120020 | G | Lonza Group Ltd.; Arch Chemicals, Inc.; Lonza Group Ltd.
10/17/2011
20120004 | G | Gores Capital Partners III, L.P.; Genesis Park Telecom Partners, L.P.; Gores Capital Partners III, L.P.
20120010 | G | Carlyle Partners V. L.P.; Pharmaceutical Product Development, Inc.; Carlyle Partners V, L.P.
20120016 | G | Robert Thomas Gaglardi; Dallas Stars, L.P.; Robert Thomas Gaglardi.
10/18/2011
20110865 | G | Applied Materials, Inc.; Varian Semiconductor Equipment Associates, Inc.; Applied Materials, Inc.
20111419 | G | GTCR Fund X/A LP; Mr. Nochi Dankner; GTCR Fund X/A LP.
20111451 | G | General Dynamics Corporation; Metro Machine Corp.; General Dynamics Corporation.
20120007 | G | International Business Machines Corp.; Q1 Labs Inc.; International Business Machines Corp.
20120021 | G | Sun Capital Partners V. L.P.; Wallace K. Tsuha, Jr.; Sun Capital Partners V, L.P.
20120023 | G | NeuStar, Inc.; Targus Information Corporation; NeuStar, Inc.
20120024 | G | Harvest Partners V., L.P.; OCM Mezzanine Fund II, L.P.; Harvest Partners V., L.P.
20120029 | G | Permira IV Continuing L.P. 2; Netafim Ltd.; Permira IV Continuing L.P. 2.
10/19/2011
20120022 | G | Recology Inc. Employee Stock Ownership Plan; CleanScapes, Inc.; Recology Inc. Employee Stock Ownership Plan.
20120032 | G | Trilantic Capital Partners IV L.P.; Implus Corporation; Trilantic Capital Partners IV L.P.
10/20/2011
20111414 | G | Pearson plc; Apollo Investment Fund IV, L.P.; Pearson plc.
20120008 | G | FR XII Bravo MV, L.P.; Inversion Corporativa IC, S.A.; FR XII Bravo MV, L.P.
20120015 | G | Craig O. McCaw; ContentGuard Holdings, Inc.; Craig O. McCaw.
10/21/2011
20120026 | G | Halliburton Company; Pine Brook Capital Partners (Cayman) AV-3 L.P.; Halliburton Company.
20120033 | G | RLJ Equity Partners Fund I, L.P.; 2003 Riverside Capital Appreciation Fund, L.P.; RLJ Equity Partners Fund I, L.P.
20120043 | G | Colam Entreprendre S.A.; OneSource Distributors Holdings, LLC; Colam Entreprendre S.A.
20120046 | G | Gryphon Partners III, L.P.; Sentinel Capital Partners III, L.P.; Gryphon Partners III, L.P.
20120051 | G | Monarch Casino & Resort, Inc.; Barry S. Sternlicht; Monarch Casino & Resort, Inc.
20120056 | G | AGCO Corporation; Centerbridge Capital Partners, L.P.; AGCO Corporation.
10/24/2011
20111421 | G | Technip S.A.; Global Industries, Ltd.; Technip S.A.
20111441 | G | Kerry Group plc; Cargill, Incorporated; Kerry Group plc.
10/25/2011
20120050 | G | J.C. Penney Company, Inc.; Liz Claiborne, Inc.; J.C. Penney Company, Inc.
10/26/2011
20120003 | G | Vista Equity Partners Fund IV, L.P.; The Sage Group plc; Vista Equity Partners Fund IV, L.P.
20120017 | G | Trian Partners Strategic Investment Fund, L.P.; Family Dollar Stores, Inc.; Trian Partners Strategic Investment Fund, L.P.
20120019 | G | Getinge AB; Atrium Medical Corporation; Getinge AB.
20120030 | G | Tri-State Generation and Transmission Association, Inc.; Starwood Energy Infrastructure; Tri-State Generation and Transmission Association, Inc.
20120038 | G | Rock-Tenn Company; Donald T. Kindt; Rock-Tenn Company.
20120047 | G | Boise Inc.; Pregis Holding I Corporation; Boise Inc.
20120057 | G | Martin Marietta Materials, Inc.; Lafarge S.A.; Martin Marietta Materials, Inc.
20120058 | G | Lafarge S.A.; Martin Marietta Materials, Inc.; Lafarge S.A.
10/28/2011
20110527 | G | Healthcare Technology Holdings, Inc.; SDI Health Holdings LLC; Healthcare Technology Holdings, Inc.
20111447 | G | Palladium Equity Partners III, L.P.; Prudential Capital Partners II, L.P.; Palladium Equity Partners III, L.P.
20120045 | G | Communications Infrastructure Investments, LLC; 360networks Corporation; Communications Infrastructure Investments, LLC.
20120053 | G | TTT Holdings, Inc.; John Boyle; TTT Holdings, Inc.
20120054 | G | Tunstall Healthcare Group Limited; American Medical Alert Corp.; Tunstall Healthcare Group Limited.
20120055 | G | G4S plc; FS Invest; G4S plc.
20120062 | G | Steiner Leisure Limited; Ideal Image Development, Inc.; Steiner Leisure Limited.
20120064 | G | Vention Medical, Inc.; Christine Bieber Orris; Vention Medical, Inc.
20120066 | G | Sonoco Products Company; Metalmark Capital Partners, L.P.; Sonoco Products Company.
20120073 | G | The Edward W. Scripps Trust; The McGraw-Hill Companies, Inc.; The Edward W. Scripps Trust.
20120092 | G | David S. Blue; Hussey Copper Ltd.; David S. Blue.
10/31/2011
20120072 | G | Loews Corporation; Enterprise Products Partners L.P.; Loews Corporation.
20120080 | G | Miraca Holdings Inc.; Mr. David D. Halbert; Miraca Holdings Inc.
20120091 | G | H.I.G. Bayside Debt & LBO Fund II, L.P.; Mr. Alexander J. Gallo; H.I.G. Bayside Debt & LBO Fund II, L.P.

FOR FURTHER INFORMATION CONTACT: Renee Chapman, Contact Representative or Theresa Kingsberry, Legal Assistant, Federal Trade Commission, Premerger Notification Office, Bureau of Competition, Room H-303, Washington, DC 20580, (202) 326-3100.

By Direction of the Commission.
Donald S. Clark,
Secretary.

[FR Doc. 2011-28982 Filed 11-10-11; 8:45 am]

BILLING CODE 6750-01-M